DEPARTMENT OF VETERANS AFFAIRS

Privacy Act of 1974; Deletion of System of Records

AGENCY: Department of Veterans Affairs.

ACTION: Notice.

Notice is hereby given that the Department of Veterans Affairs (VA) is deleting a system of records entitled “Integrated Data Communications Utility Network Management Data Base” (78VA331), which was first published at 55 FR 22137 dated May 31, 1990, and revised at 58 FR 57673 dated October 26, 1993. The system of records known as Integrated Data Communications Utility (IDCU) Network Management Data Base is obsolete. The information was initially developed as a means to track and manage information regarding individuals who were authorized access to the IDCU or the network management resources of the IDCU. The requirement for VA to maintain this system of records no longer exists because the IDCU no longer operates within the Department of Veterans Affairs. IDCU records have not been amended nor added in several years and, due to mandatory routine destruction, in accordance with applicable records disposition authority, no records exist in the system.

A “Report of Intention To Publish a Federal Register Notice of Deletion of a System of Records” and an advance copy of the system notice have been provided to the appropriate congressional committees and to the Director, Office of Management and Budget (OMB), as required by 5 U.S.C. 552a(r) and guidelines issued by OMB (65 FR 77677), dated December 12, 2000.

This system deletion is effective June 6, 2008.

Approved: May 20, 2008.
Gordon H. Mansfield,
Deputy Secretary of Veterans Affairs.

[FR Doc. E8-12690 Filed 6-5-08; 8:45 am]

BILLING CODE 8320-01-P